DEPARTMENT OF LABOR

Employment and Training Administration

Proposed Collection: Evaluation of State Implementation of 303(k) of the Social Security Act; Comment Request

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed State Unemployment Tax Avoidance (SUTA) Study Implementation Survey. A copy of the proposed information collection request (ICR) can be obtained by contacting the office listed below in the addressee section of this notice or by accessing: http://www.doleta.gov/Performance/guidance/OMBControlNumber.cfm.

DATES: Written comments must be submitted to the office listed in the addresses section below on or before February 28, 2007.

ADDRESSES: Kevin M. Culp, Room N5641, 200 Constitution Avenue, NW., Washington, DC 20210; telephone number: 202-693-3679 (this is not a toll-free number); internet address: culp.kevin@dol.gov; facsimile number: 202-693-2844.

SUPPLEMENTARY INFORMATION:

I. Background

On August 9, 2004, President George W. Bush signed into law the SUTA Dumping Prevention Act of 2004 (Act), which amended Federal unemployment compensation law by adding section 303(k) to the Social Security Act (SSA). This Act established a minimum standard nationwide for curbing an unemployment compensation tax rate manipulation scheme known as SUTA Dumping. In addition, the Act required the Secretary of Labor (Secretary) to conduct a study of the states' implementation of the provisions of section 303(k) of the SSA, and to submit to the Congress a report on the findings of this study no later than July 15, 2007. Specifically, the law states:

(1) STUDY—The Secretary of Labor shall conduct a study of the implementation of the provisions of section 303(k) of the Social Security Act (as added by subsection (a)) to assess the status and appropriateness of State actions to meet the requirements of such provisions.

(2) REPORT—Not later than July 15, 2007, the Secretary of Labor shall submit to the Congress a report that contains the findings of the study required by paragraph (1) and recommendations for any Congressional action that the Secretary considers necessary to improve the effectiveness of section 303(k) of the Social Security Act.

In order to comply with these provisions, the U.S. Department of Labor, Employment and Training Administration contracted with Coffey Communications, LLC, in collaboration with its subcontractor, the Urban Institute, to conduct the required study. In addition, an element was added to the study requiring that it look into the impact the Act had, if any, on state practice in regard to the Professional Employer Organization (PEO) industry and what impact, if any, the Act had on PEOs.

The goals of the study are to:

• Identify state legislation, policy and procedures intended to mitigate the practice of SUTA dumping;

• Measure the use and effectiveness of state penalties intended to curb SUTA dumping;

• Analyze state law transfer of experience provisions regarding the entry of a client into a PEO relationship and the financial impact of such treatment both on the state UI trust funds and on the PEO industry;

• Compile resultant data and information necessary to allow the Secretary of Labor to report to Congress no later than July 15, 2007, on the effectiveness of section 303(k) of the SSA.

The proposed survey represents the main instrument for collecting state data and experience on the states' implementation of section 303(k) of the SSA.

II. Review Focus

The Department of Labor is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

The proposed survey will provide useful, policy relevant data and information required by the Administration, DOL, ETA, and state administrators to make appropriate decisions and judgments regarding the states' implementation of section 303(k) of the SSA. The information, gathered through this survey from all 50 states, the District of Columbia, the Virgin Islands, and Puerto Rico will provide the Secretary of Labor with the necessary information needed to file the required July 15, 2007, report to Congress. In addition, the knowledge gained regarding states' policy on the transfer of experience between client companies and PEO companies as they enter or leave a contractual relationship should prove beneficial in any future state and/or ETA discussions and legislative proposals regarding the PEO industry. ETA will also be able to use this information to determine what future SUTA dumping training, if any, must be provided to personnel within the State Workforce Agencies.

Type of Review: New collection of information.

Agency: Employment and Training Administration.

Title: Evaluation of State Implementation of section 303(k) of the Social Security Act, SUTA Study Implementation Survey.

OMB Number: 1205-0NEW.

Recordkeeping: No additional record keeping. One time survey.

Affected Public: State Government.

Reference: Section 303(k) of the SSA.

Total Respondents: 53.

Estimated Total Burden Hours: 106.

Total Burden Cost (capital/startup): 0.

Total Burden Cost (operating/maintaining): 0.

Comments submitted in response to this comment request will be summarized and/or included in the request for Office of Management and Budget approval of the information collection request; they will also become a matter of public record.

Dated: December 13, 2006.
Maria K. Flynn
Administrator, Office of Policy Development and Research.

[FR Doc. E6-21544 Filed 12-18-06; 8:45 am]

BILLING CODE 4510-30-P